DEPARTMENT OF AGRICULTURE

Food and Nutrition Service

7 CFR Parts 210, 220, 225, 226, 246, 247 and 251

[FNS-2007-0005]

RIN 0584-AD43

Data Collection Related to the Participation of Faith-Based and Community Organizations

AGENCY: Food and Nutrition Service, USDA.

ACTION: Final rule.

SUMMARY: This final rule is part of the Department's effort to fulfill its responsibilities under the Faith-Based and Community Initiative pursuant to Executive Orders 13279 and 13280. Under this rule, State agencies will collect and report information related to institutions and organizations that participate in specified Food and Nutrition Service (FNS) nutrition assistance programs. This information will be a new collection for the affected programs. It will enable FNS to identify the faith-based and community organizations participating in Federal nutrition assistance programs and determine the level of participation of faith-based and community organizations in the programs. It will not adversely impact the application or participation of any organization or institution currently participating in, or seeking to participate in, FNS nutrition assistance programs.

DATES: This rule is effective June 1, 2007.

FOR FURTHER INFORMATION CONTACT: Keith Churchill, Section Chief, Child and Adult Care and Summer Section, Policy and Program Development Branch, Child Nutrition Division, Food and Nutrition Service, USDA, 3101 Park Center Drive, Alexandria, VA 22302, phone (703) 305-2590.

SUPPLEMENTARY INFORMATION:

I. Background

What Was Proposed?

On December 12, 2002, Executive Orders 13279 and 13280 were signed by the President. Executive Order 13279 instructs agency heads, including the Secretary of Agriculture, to collect data regarding the participation of faith-based and community organizations in social service programs that receive Federal financial assistance. Executive Order 13279 instructed agency heads, including the Secretary of Agriculture, to “implement new policies that are necessary to ensure that their respective agencies collect data regarding the participation of faith-based and community organizations in social service programs that receive Federal financial assistance.” Executive Order 13280 created the center for Faith-Based and Community Initiatives in the Department of Agriculture. The Order charged the Center to identify and eliminate regulatory, contracting, and other programmatic obstacles that prevent the full participation of faith-based and community organizations in the Department's programs, thereby increasing the effectiveness of the Department's programs.

To fulfill its responsibilities under Executive Orders 13279 and 13280, the Department of Agriculture (USDA) published in the Federal Register (71 FR 10914) on March 3, 2006, a rule proposing to collect information that would enable FNS to identify the faith-based and community organizations participating in FNS programs, determine the level of participation of faith-based and community organizations in its programs, and ensure that FNS' programs are open to all qualified organizations.

The rule proposed to require State agencies to report on a number of data elements for Federal fiscal years (FY) 2006 through 2009 regarding the organizations and institutions that currently participate in, and that submit an application for the purpose of contracting, or entering into an agreement with the State agency to participate in, the National School Lunch Program (NSLP); School Breakfast Program (SBP); Summer Food Service Program (SFSP); Child and Adult Care Food Program (CACFP); Special Supplemental Nutrition Program for Women, Infants and Children (WIC); Commodity Supplemental Food Program (CSFP); or with the State agency or another eligible recipient agency to participate in the Emergency Food Assistance Program (TEFAP). This rule also proposed to require TEFAP State agencies to collect information on a second tier of institutions and organizations that participate in TEFAP—emergency feeding organizations—that distribute TEFAP food at the local level.

The proposed rule indicated that State agencies in the affected programs would be required to report to FNS on four or five of the eight data elements under consideration on or before March 1 of each year from 2007 through 2010 for the prior Federal fiscal year. FNS specifically requested comments on which of the following data elements should be required:

(a) The total number of organizations that submitted an application to participate in the program;

(b) The total number of applications that were approved;

(c) The total number of organizations and institutions that sign a contract, or enter into an agreement to participate in the program;

(d) The total number of organizations and institutions that actually participate in the program;

(e) The name of each organization that actually participates in the program;

(f) The city in which the participating organization is headquartered within the state;

(g) The amount of funds provided to the participating organization, whether awarded, granted, contracted, or reimbursed; and

(h) The type of participating organization, e.g. government agency, educational institution, for-profit organization, non-profit organization/secular, non-profit organization/faith-based, and “other.”

II. Discussion of Comments and Their Resolutions

How Many Comments Were Received?

During the 90 day comment period, we received twenty-eight comment letters on the proposed rule, of which twenty were from State agencies, five were from food banks, and three were from non-profit and professional organizations.

What Did Commenters Say About the Proposed Rule?

The commenters generally said they are able to comply with the data collection. However, many commenters expressed concerns about the burden being placed on State agencies and food banks with regard to some of the data elements. Seventeen commenters requested that FNS provide definitions of the terms “faith-based organization” and “community organization” to avoid inaccurate determinations. Nine commenters requested more time to implement the data collection requirements, and to delay the first Federal fiscal year for which data collection would be required until FY 2007, which would result in the first reports being due on or before March 1, 2008. Additionally, nine commenters questioned the purpose of the data collection and said that no conclusion can be made or useful data be collected. Some State agencies expressed concern that the data collection may result in having to recruit more faith-based and community organizations, saying that they are already overburdened with other new requirements in the nutrition assistance programs and that they do not have the staff resources to increase recruitment and training.

Nine commenters questioned the need to collect the data, since there are no barriers for qualified institutions to participate in FNS programs. Four commenters raised concerns that the data collection may result in discrimination against non-faith-based organizations, because the data could be used to target faith-based organization for special treatment; one said the data collection will not address discrimination; and two commenters suggested that discrimination should be addressed individually.

Discussion of Comments on the Data Elements

The proposed rule offered eight data elements that were under consideration, with the stated expectation that only four or five of these data elements would be included in the final rule. Based on comments, which tended to favor as low a reporting burden as possible, the following four data elements, with minor modification, were selected for inclusion in this final rule:

• The name of each organization that actually participates in the program;

• The city in which the participating organization is headquartered within the state and the name of the state;

• The amount of funds provided to the participating organization, regardless of whether those funds were awarded, granted, contracted, or reimbursed;

• The type of participating organization, e.g., government agency, educational institution, for-profit organization, non-profit organization/secular, non-profit organization/faith-based, and “other.”

Discussion of Requiring State Agencies To Document Methodology for Collecting Data

Several State agencies commented that they can collect the data, but that the collection effort will impose additional administrative burdens. In an effort to lessen the impact of the data collection effort, we have eliminated the requirement that the State agencies document their data collection methodology. However, FNS will provide State agencies with guidance on a methodology for collecting the data.

Discussion of Comments on Data Collection for TEFAP

We received comments from five food banks and a few State agencies addressing concerns that the second tier data collection would be burdensome for the food banks, which have limited staff resources. This second tier data collection was proposed for TEFAP participants only. We agree with the commenters; therefore, the data collection for TEFAP, like the other Programs, will be limited to first tier data.

Discussion of Comments on the Need for Guidance on the Level of Data Collection

Almost half of the comments we received raised concerns regarding the time and administrative burden for an agency to collect data on the participation of faith-based and community organizations. We believe many of these concerns reflected a misunderstanding that State agencies would be required to collect site level data. This rule requires only that State agencies collect data for organizations which have signed agreements for participation in each respective program.

Discussion of Comments on Definitions for Terms “Faith-Based Organization” and “Community Organization”

More than half of the comments we received requested definitions for the terms “faith-based organization” and “community organization”. Recently, FNS collected data similar to that to be collected in accordance with this rule, on a voluntary basis, from State agencies administering WIC. We did not provide definitions of these terms. Participating agencies were identified as government agencies, educational institutions, for profit organizations, non-profit organizations/secular, non-profit organizations/faith-based, or “other” without apparent confusion. Since participating agencies were able to identify themselves to WIC State agencies collecting that data, FNS has determined that it is not necessary to provide the definitions of “faith-based organization” and “community organization” for this data collection.

Discussion of Comments on Deadlines

We appreciate commenters' concerns regarding not being able to meet the March 1, 2007, deadline for reporting to FNS the data of organizations that participated in the program for Federal fiscal year 2006. We will extend the submission date to August 31, 2007.

Discussion of Comments on Concerns That the Rule Will Have Adverse Results

Some commenters said the proposed rule raised concerns of participation barriers that do not exist in FNS's nutrition assistance programs and expressed uneasiness that the rule may have adverse effects on the participation of eligible institutions. More than one third of the commenters said there are no barriers to participation for qualified organizations and that faith-based and community-based organizations are already well represented in FNS's food assistance programs. Other commenters expressed concerns that the data collection would be intrusive, would encourage the approval of unqualified faith-based organizations to participate in the programs, and would result in discriminatory practices.

As stated in the proposed rule and in the preamble of this rule, FNS has concluded that the data collection will not adversely impact the application or participation of any organization or institution currently participating in, or seeking to participate in, FNS nutrition assistance programs. Furthermore, the data collection should not result in the approval of unqualified faith-based organizations, or in other discriminatory practices that would be in violation of Federal laws and regulations. The purpose of this data collection is to fulfill FNS's responsibilities under Executive Orders 13279 and 13280.

Discussion of Comments on the Usefulness of the Data Collection

Almost one third of the commenters doubt the usefulness and relevancy of the data collection. As stated in the preamble of the proposed rule, the Department must fulfill its responsibilities under Executive Orders 13279 and 13280. Section 3(b) of Executive Order 13279 instructs the Secretary to implement new policies to collect data regarding the participation of faith-based and community organizations in social service programs that receive Federal financial assistance. This rule permits FNS to comply with that instruction. The consequences of non-collection would be an inability to comply fully with the executive orders.

III. Procedural Matters

Executive Order 12866

This final rule has been determined to be significant and was reviewed by the Office of Management and Budget (OMB) under Executive Order 12866.

Regulatory Impact Analysis

Need for Action

Section 3(b) of Executive Order 13279 provides the Secretary with authority to collect data regarding the participation of faith-based and community organizations in social service programs that receive Federal financial assistance. The consequence of non-collection would be an inability to determine the numbers of participating faith-based and community organizations and a failure to comply with Executive Orders 13279 and 13280.

Benefits

This final rule would help the Department to implement Executive Orders 13279 and 13280. Collecting information on faith-based and community organizations would enable FNS to determine the level of participation in FNS programs by those organizations and help ensure that its programs are open to all eligible organizations.

Costs

The cost implications of this final rule are minor. State agencies collect data for organizations that participate in the programs for each of Federal FYs 2006 through 2009, including those that participated only for part of the fiscal year. Each State agency varies in the number of participating organizations, so the overall additional time burden will differ among programs.

Regulatory Flexibility Act

This final rule has been reviewed with regard to the requirements of the Regulatory Flexibility Act (5 U.S.C. 601-612). Nancy Montanez Johner, Under Secretary for Food, Nutrition, and Consumer Services, has certified that this final rule will not have a significant economic impact on a substantial number of small entities. The data collection that would be implemented would enable FNS to identify the faith-based and community organizations participating in FNS programs, determine the level of participation of faith-based and community organizations in its programs, ensure that FNS's nutrition assistance programs are open to all eligible organizations, as mandated by Executive Orders 13279 and 13280, and evaluate the effectiveness of the Department's outreach efforts. While the effect of this rule would require organizations seeking to participate or participating in affected FNS programs to provide the requested information at the time of application and at other times, these reporting changes will not have a significant economic impact on those small entities.

Unfunded Mandates Reform Act

Title II of the Unfunded Mandates Reform Act of 1995 (UMRA), Public Law 104-4, establishes a requirement for Federal agencies to assess the effects of their regulatory actions on State, local, and tribal governments and the private sector. Under section 202 of the UMRA, FNS generally prepares a written statement, including a cost-benefit analysis. This is done for proposed and final rules that have “Federal mandates” which may result in expenditures of $100 million or more in any one year by State, local, or tribal governments, in the aggregate, or by the private sector. When this statement is needed for a rule, section 205 of the UMRA generally requires FNS to identify and consider a reasonable number of regulatory alternatives. It must then adopt the least costly, most cost-effective or least burdensome alternative that achieves the objectives of the rule.

This final rule contains no Federal mandates (under regulatory provisions of Title II of the UMRA) that impose costs on State, local, and tribal governments or the private sector of $100 million or more in any one year. Thus, this rule is not subject to the requirements of sections 202 and 205 of the UMRA.

Executive Order 12372

National School Lunch Program; School Breakfast Program; Summer Food Service Program; Child and Adult Care Food Program; Special Supplemental Nutrition Program for Women, Infants and Children; and the Commodity Supplemental Food Program are listed in the Catalog of Federal Domestic Assistance under Nos. 10.555, 10.553, 10.559, 10.558, 10.557, and 10.565, respectively. The Emergency Food Assistance Program is listed in the Catalog of Federal Domestic Assistance under Nos. 10.568 and 10.569. For the reasons set forth in the final rule in 7 CFR part 3015, Subpart V and related Notice published at 48 FR 29114, June 24, 1983, this program is included within the scope of Executive Order 12372, which requires intergovernmental consultation with State and local officials.

Executive Order 13132

Executive Order 13132 requires Federal agencies to consider the impact of their regulatory actions on State and local governments. Where such actions have federalism implications, agencies are directed to provide a statement for inclusion in the preamble to the regulations describing the agency's considerations in terms of the three categories called for under section (6)(b)(2)(B) of Executive Order 13132. FNS has considered the impact of this rule on State and local governments and has determined that this rule does not have federalism implications. This rule does not impose substantial compliance costs on State and local governments. Therefore, under Section 6(b) of the Executive Order, a federalism summary impact statement is not required.

Executive Order 12988

This final rule has been reviewed under Executive Order 12988, Civil Justice Reform. This rule is not intended to have preemptive effect with respect to any State or local laws, regulations or policies which conflict with its provisions or which would otherwise impede its full implementation. This rule is not intended to have retroactive effect unless so specified in the Dates paragraph. Prior to any judicial challenge to the provisions of this rule or the application of its provisions, all applicable administrative procedures must be exhausted.

Civil Rights Impact Analysis

FNS has reviewed this rule in accordance with the Department Regulation 4300-4, “Civil Rights Impact Analysis,” to identify and address any major civil rights impacts the rule might have on minorities, women, and persons with disabilities. After a careful review of the rule's intent and provisions, FNS has determined that this final rule would not in any way limit or reduce participants' ability to participate in FNS's nutrition assistance programs on the basis of race, color, national origin, sex, age, or disability. FNS found no factors that would negatively and disproportionately affect any group of individuals.

Paperwork Reduction Act

The Paperwork Reduction Act of 1995 (44 U.S.C. Chap. 35; see 5 CFR 1320) requires that the Office of Management and Budget (OMB) approve all collections of information by a Federal agency from the public before they can be implemented. Respondents are not required to respond to any collection of information unless it displays a current valid OMB control number. The information collection contained in this rule has been approved under OMB No. 0584-0540.

Burden estimates for the proposed rule, Data Collection Related to Institutions and Organizations, were published in the Federal Register on March 3, 2006, at 71 FR 10914. In accordance with the Paperwork Reduction Act of 1995, the information reporting and recordkeeping requirements included in the proposed rule outlined the changes in the information collection burden. OMB accepted public comments on FNS's estimated reporting and recordkeeping burden. Commenters indicated that the proposed reporting and recordkeeping requirements are too burdensome and the proposed estimated annual reporting and recordkeeping burden hours under the Paperwork Reduction Act of 1995 were too low. As a result of public comment, FNS reviewed and adjusted the burden estimates to reflect (1) the elimination of one proposed provision which would have required State agencies to document their methodology; (2) the actual data elements required by this final rule; and (3) the elimination of second tier data collection for TEFAP. The estimated burden hours for the School Breakfast Program were also reduced since in most instances school food authorities that participate in the School Breakfast Program also participate in the National School Lunch Program. And since data is being collected for both programs, three of the four data elements being collected will be the same. These include the name, location, and type of organization. Only the amount of funds provided for the Program will have to be determined separately. We have taken these different circumstances into consideration in our submission for clearance by OMB under a single docket number. The burden associated with OMB No. 0584-0540, Data Collection Related to Institutions and Organizations, is cleared as follows:

Programs | Number of respondents | Number responses per respondent | Hours per response | Annual burden hours
National School Lunch Program:
§ 210.23(d)(1) | 57 | 364 | 2 | 41,496
§ 210.23(d)(2) | 57 | 1 | 0.5 | 29
School Breakfast Program:
§ 220.13(1)(1) | 57 | 290 | 1 | 16,530
§ 210.23(1)(2) | 57 | 1 | 0.25 | 14.25
Summer Food Service Program:
§ 225.18(i)(1) | 53 | 71 | 2 | 7,526
§ 210.18(i)(2) | 53 | 1 | 0.5 | 27
Child and Adult Care Food Program:
§ 210.26(g)(1) | 55 | 386 | 2 | 42,460
§ 210.26(g)(2) | 55 | 1 | 0.5 | 28
Special Supplemental Nutrition Program for Women, Infants and Children:
§ 246.26(h)(1) | 53 | 35 | 2 | 3,710
§ 246.26(h)(2) | 53 | 1 | 0.5 | 27
Commodity Supplemental Food Program:
§ 247.29(d)(1) | 35 | 4 | 2 | 280
§ 247.29(d)(2) | 35 | 1 | 0.5 | 18
The Emergency Food Assistance Program:
§ 251.10(i)(1) | 56 | 29 | 2 | 3,248
§ 251.10(i)(2) | 56 | 1 | 0.5 | 28

Total No. of Respondents: 166.

Total Annual Responses: 66,256.

Total Annual Burden: 115,421.25.

E-Government Act Compliance

FNS is committed to complying with the E-Government Act, to promote the use of the Internet and other information technologies to provide increased opportunities for citizen access to Government information and services, and for other purposes. FNS will request that State agencies respond to the data collection electronically, using an electronic report template which FNS will provide.

List of Subjects

7 CFR Part 210

Children, Food assistance programs, Grant programs-social programs, Nutrition, Reporting and recordkeeping requirements, National School Lunch Program.

7 CFR Part 220

Children, Food assistance programs, Grant programs-social programs, Nutrition, Reporting and recordkeeping requirements, School Breakfast Program.

7 CFR Part 225

Food assistance programs, Grant programs—health, Infants and children, Labeling, Reporting and recordkeeping requirements.

7 CFR Part 226

Accounting, Aged, Day care, Food assistance programs, Grant programs, Grant programs—health, American Indians, Individuals with disabilities, Infants and children, Intergovernmental relations, Loan programs, Reporting and recordkeeping requirements, Surplus agricultural commodities.

7 CFR Part 246

Food assistance programs, Food donations, Grant programs-social programs, American Indians, Infants and children, Maternal and child health, Nutrition, Nutrition education, Public assistance programs, WIC, Women.

7 CFR Part 247

Agricultural commodities, Food assistance programs, Infants and children, Maternal and child health, Public assistance programs, nutrition, women, aged.

7 CFR Part 251

Aged, Agricultural commodities, Business and industry, Food assistance programs, Food donations, Grant programs-social programs, American Indians, Infants and children, Commodity loan programs, Reporting and recordkeeping requirements, School breakfast and lunch programs, Surplus agricultural commodities.

Accordingly, 7 CFR Parts 210, 220, 225, 226, 246, 247 and 251 are amended as follows:

PART 210—NATIONAL SCHOOL LUNCH PROGRAM

1. The authority citation for part 210 continues to read as follows:

Authority: 42 U.S.C. 1751-1760, 1779.

2. In § 210.23, a new paragraph (d) is added to read as follows:

§ 210.23 Other responsibilities.

* * * * *

(d) Data collection related to school food authorities. (1) Each State agency must collect data related to school food authorities that have an agreement with the State agency to participate in the program for each of Federal fiscal years 2006 through 2009, including those school food authorities that participated only for part of the fiscal year. Such data shall include:

(i) The name of each school food authority;

(ii) The city in which each participating school food authority was headquartered and the name of the state;

(iii) The amount of funds provided to the participating organization, i.e., the amount of federal funds reimbursed to each participating school food authority; and

(iv) The type of participating organization, e.g., government agency, educational institution, non-profit organization/secular, non-profit organization/faith-based, and “other.”

(2) On or before August 31, 2007, and each subsequent year through 2010, State agencies must report to FNS data as specified in paragraph (d)(1) of this section for the prior Federal fiscal year. State agencies must submit this data in a format designated by FNS.

PART 220—SCHOOL BREAKFAST PROGRAM

1. The authority citation for part 220 continues to read as follows:

Authority: 42 U.S.C. 1773, 1779, unless otherwise noted.

2. In § 220.13, a new paragraph (l) is added to read as follows:

§ 220.13 Special responsibilities of State agencies.

* * * * *

(l) Data collection related to school food authorities. (1) Each State agency must collect data related to school food authorities that have an agreement with the State agency to participate in the program for each of Federal fiscal years 2006 through 2009, including those school food authorities that participated only for part of the fiscal year. Such data shall include:

(i) The name of each school food authority;

(ii) The city in which each participating school food authority was headquartered and the name of the state;

(iii) The amount of funds provided to the participating organization, i.e., the amount of federal funds reimbursed to each participating school food authority; and

(iv) The type of participating organization, e.g., government agency, educational institution, non-profit organization/secular, non-profit organization/faith-based, and “other.”

(2) On or before August 31, 2007, and each subsequent year through 2010, State agencies must report to FNS data as specified in paragraph (l)(1) of this section for the prior Federal fiscal year. State agencies must submit this data in a format designated by FNS.

PART 225—SUMMER FOOD SERVICE PROGRAM

1. The authority citation for part 225 is revised to read as follows:

Authority: Secs. 9, 13 and 14, Richard B. Russell National School Lunch Act, as amended (42 U.S.C. 1758, 1761 and 1762a).

2. In § 225.18, a new paragraph (i) is added to read as follows:

§ 225.18 Miscellaneous administrative provisions.

* * * * *

(i) Data collection related to sponsors. (1) Each State agency must collect data related to sponsors that have an agreement with the State agency to participate in the program for each of Federal fiscal years 2006 through 2009, including those sponsors that participated only for part of the fiscal year. Such data shall include:

(i) The name of each sponsor;

(ii) The city in which each participating sponsor was headquartered and the name of the state;

(iii) The amount of funds provided to the participating organization, i.e., the sum of the amount of federal funds reimbursed for operating and administrative cost; and

(iv) The type of participating organization, e.g., government agency, educational institution, non-profit organization/secular, non-profit organization/faith-based, and “other.”

(2) On or before August 31, 2007, and each subsequent year through 2010, State agencies must report to FNS data as specified in paragraph (i)(1) of this section for the prior Federal fiscal year. State agencies must submit this data in a format designated by FNS.

PART 226—CHILD AND ADULT CARE FOOD PROGRAM

1. The authority citation for part 226 continues to read as follows:

Authority: Secs. 9, 11, 14, 16, and 17, Richard B. Russell National School Lunch Act, as amended (42 U.S.C. 1758, 1759a, 1762a, 1765 and 1766).

2. In § 226.25, a new paragraph (g) is added to read as follows:

§ 226.25 Other provisions.

* * * * *

(g) Data collection related to organizations. (1) Each State agency must collect data related to institutions that have an agreement with the State agency to participate in the program for each of Federal fiscal years 2006 through 2009, including those institutions that participated only for part of the fiscal year. Such data shall include:

(i) The name of each institution;

(ii) The city in which each participating institution was headquartered and the name of the state;

(iii) The amount of funds provided to the participating organization, i.e., the sum of the amount of federal funds reimbursed for operating and, where applicable, administrative costs; and

(iv) The type of participating organization, e.g., government agency, educational institution, for-profit organization, non-profit organization/secular, non-profit organization/faith-based, and “other.”

(2) On or before August 31, 2007, and each subsequent year through 2010, State agencies must report to FNS data as specified in paragraph (g)(1) of this section for the prior Federal fiscal year. State agencies must submit this data in a format designated by FNS.

PART 246—SPECIAL SUPPLEMENTAL NUTRITION PROGRAM FOR WOMEN, INFANTS AND CHILDREN

1. The authority citation for part 246 continues to read as follows:

Authority: 42 U.S.C. 1786.

2. In § 246.26, a new paragraph (j) is added to read as follows:

§ 246.26 Other provisions.

* * * * *

(j) Data collection related to local agencies. (1) Each State agency must collect data related to local agencies that have an agreement with the State agency to participate in the program for each of Federal fiscal years 2006 through 2009, including those local agencies that participated only for part of the fiscal year. Such data shall include:

(i) The name of each local agency;

(ii) The city in which each local agency was headquartered and the name of the state;

(iii) The amount of funds provided to the participating organization, i.e., the amount of federal funds provided for nutrition services and administration to each participating local agency; and

(iv) The type of participating organization, e.g., government agency, educational institution, non-profit organization/secular, non-profit organization/faith-based, and “other.”

(2) On or before August 31, 2007, and each subsequent year through 2010, State agencies must report to FNS data as specified in paragraph (j)(1) of this section for the prior Federal fiscal year. State agencies must submit this data in a format designated by FNS.

PART 247—COMMODITY SUPPLEMENTAL FOOD PROGRAM

1. The authority citation for part 247 continues to read as follows:

Authority: Sec. 5, Pub. L. 93-86, 87 Stat. 249, as added by Sec. 1304(b)(2), Pub. L. 95-113, 91 Stat. 980 (7 U.S.C. 612c note); sec. 1335, Pub. L. 97-98, 95 Stat. 1293 (7 U.S.C. 612c note); sec. 209, Pub. L. 98-8, 97 Stat. 35 (7 U.S.C. 612c note); sec. 2(8), Pub. L. 98-92, 97 Stat. 611 (7 U.S.C. 612c note); sec. 1562, Pub. L. 99-198, 99 Stat. 1590 (7 U.S.C. 612c note); sec. 101(k), Pub. L. 100-202; sec. 1771(a), Pub. L. 101-624, 101 Stat. 3806 (7 U.S.C. 612c note); sec. 402(a), Pub. L. 104-127, 110 Stat. 1028 (7 U.S.C. 612c note); Pub. L. 107-171.

2. In § 247.29, a new paragraph (d) is added to read as follows:

§ 247.29 Reports and recordkeeping.

* * * * *

(d) What data must the State agency collect related to local agencies? (1) Each State agency must collect data related to local agencies that have an agreement with the State agency to participate in the program for each of Federal fiscal years 2006 through 2009; including those local agencies that participated only for part of the fiscal year. Such data shall include:

(i) The name of each local agency;

(ii) The city in which each participating local agency was headquartered and the name of the state;

(iii) The amount of funds provided to the participating organization, i.e., the amount of federal administrative funds provided to each participating local agency; and

(iv) The type of participating organization, e.g., government agency, educational institution, non-profit organization/secular, non-profit organization/faith-based, and “other.”

(2) On or before August 31, 2007, and each subsequent year through 2010, State agencies must report to FNS data as specified in paragraph (d)(1) of this section for the prior Federal fiscal year. State agencies must submit this data in a format designated by FNS.

PART 251—THE EMERGENCY FOOD ASSISTANCE PROGRAM

1. The authority citation for part 251 continues to read as follows:

Authority: 7 U.S.C. 7501-7516.

2. In § 251.10, a new paragraph (i) is added to read as follows:

§ 251.10 Miscellaneous provisions.

* * * * *

(i) Data collection related to eligible recipient agencies. (1) Each State agency must collect data related to eligible recipient agencies that have an agreement with the State agency to participate in the program for each of Federal fiscal years 2006 through 2009, including those eligible recipient agencies that participated only for part of the fiscal year. Such data shall include:

(i) The name of each eligible recipient agency;

(ii) The city in which each participating eligible recipient agency was headquartered and the name of the state;

(iii) The amount of funds provided to the participating organization, i.e., the sum of the amount of federal administrative funds plus the value of the commodities purchased under Section 214 of the Emergency Food Assistance Act of 1983 provided to each participating eligible recipient agency; and

(iv) The type of participating organization, e.g., government agency, educational institution, non-profit organization/secular, non-profit organization/faith-based, and “other.”

(2) On or before August 31, 2007, and each subsequent year through 2010, State agencies must report to FNS data as specified in paragraph (i)(1) of this section for the prior Federal fiscal year. State agencies must submit this data in a format designated by FNS.

Dated: April 23, 2007.
Nancy Montanez Johner,
Under Secretary, Food, Nutrition, and Consumer Services.

[FR Doc. 07-2173 Filed 5-1-07; 8:45 am]

BILLING CODE 3410-30-P